DEPARTMENT OF JUSTICE

[OMB Number 1121-0364]

Agency Information Collection Activities; Proposed eCollection eComments Requested; Title—Revision of Currently Approved Collection Survey: Annual Survey of Jails in Indian Country

AGENCY: Bureau of Justice Statistics, Department of Justice.

ACTION: 30-Day notice.

SUMMARY: The Bureau of Justice Statistics (BJS), Department of Justice (DOJ), will be submitting the following information collection request to the Office of Management and Budget (OMB) for review and approval in accordance with the Paperwork Reduction Act of 1995.

DATES: Comments are encouraged and will be accepted for 30 days until February 23, 2026.

FOR FURTHER INFORMATION CONTACT: If you have comments especially on the estimated public burden or associated response time, suggestions, or need a copy of the proposed information collection instrument with instructions or additional information, please contact Carol Ann Sharo, Statistician, Bureau of Justice Statistics, 999 N Capitol St. NE, Washington, DC 20531, (email: bjspra.comments@ojp.usdoj.gov; telephone: 202-307-0765).

SUPPLEMENTARY INFORMATION: The proposed information collection was previously published in the Federal Register, volume 90 page 52704 on November 21, 2025, allowing a 60-day comment period. BJS received two comments expressing support for the information collection.

Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1121-0364. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Reinstatement, with changes, of a previously approved collection for which approval has expired.

2. Title of the Form/Collection: Annual Survey of Jails in Indian Country (SJIC).

3. Agency form number, if any, and the applicable component of the Department of Justice sponsoring the collection: The form number is CJ-5B: Annual Survey of Jails in Indian Country (SJIC). The applicable component within the Department of Justice is the Bureau of Justice Statistics (BJS), in the Office of Justice Programs. The Bureau of Justice Statistics (BJS) requests clearance to conduct the Annual Survey of Jails in Indian Country (SJIC) for a three-year period.

4. Affected public who will be asked or required to respond, as well as a brief abstract: Affected Public Respondents will include tribal and federal governments which will include approximately 77 confinement facilities, detention centers, and other correctional facilities operated by tribal authorities or the Bureau of Indian Affairs.

Abstract: Through the Survey of Jails in Indian Country (SJIC), the Bureau of Justice Statistics (BJS) collects annual aggregated administrative data from all Indian country jails, which consists of approximately 77 confinement facilities, detention centers, and other correctional facilities operated by tribal authorities or the Bureau of Indian Affairs (BIA). Facility administrators provide data on SJIC form CJ-5B that meet the definitions provided by BJS for items including: the number of inmates confined by demographic information, number of new admissions and final discharges, the average daily population (ADP) and peak population, the number of attempted suicides and deaths, the rated capacity to hold inmates, and the number of staff employed in Indian country jails. The Bureau of Justice Statistics uses this information in published reports and for the U.S. Congress, Executive Office of the President, practitioners, researchers, students, the media, and others interested in criminal justice statistics.

5. Obligation to Respond: The obligation to respond is voluntary.

6. Total Estimated Number of Respondents: BJS estimates approximately 77 Indian country correctional facilities will complete SJIC form CJ-5B.

7. Estimated Time per Respondent: 55 minutes.

8. Frequency: One per year.

9. Total Estimated Annual Time Burden: 70.5 hours.

10. Total Estimated Annual Other Costs Burden: $0.

If additional information is required contact: Darwin Arceo, Department Clearance Officer, United States Department of Justice, Justice Management Division, Enterprise Portfolio Management Two Constitution Square, 145 N Street NE, 4W-218, Washington, DC.

Dated: January 21, 2026.
Darwin Arceo,
Department Clearance Officer for PRA, U.S. Department of Justice.

[FR Doc. 2026-01253 Filed 1-22-26; 8:45 am]

BILLING CODE 4410-18-P